DEPARTMENT OF DEFENSE

Department of the Navy

32 CFR Part 706

Certifications and Exemptions Under the International Regulations for Preventing Collisions at Sea, 1972

AGENCY: Department of the Navy, DOD.

ACTION: Final rule.

SUMMARY: The Department of the Navy is amending its certifications and exemptions under the International Regulations for Preventing Collisions at Sea, 1972 (72 COLREGS), to reflect that the Deputy Assistant Judge Advocate General of the Navy (Admiralty and Maritime Law) has determined that certain prior entries in 32 CFR part 706 are no longer applicable or that administrative corrections are required. The intended effect of this rule is to warn mariners in waters where 72 COLREGS apply.

EFFECTIVE DATE: December 20, 2000.

FOR FURTHER INFORMATION CONTACT: Commander Gregg A. Cervi, JAGC, U.S. Navy, Deputy Assistant Judge Advocate General (Admiralty and Maritime Law), Office of the Judge Advocate General, (Code 11), 1322 Patterson Avenue SE., Suite 3000, Washington Navy Yard, DC 20374-5066, Telephone number: (202) 685-5040.

SUPPLEMENTARY INFORMATION: Pursuant to the authority granted in 33 U.S.C. 1605, the Department of the Navy amends 32 CFR part 706. This amendment provides notice that the Deputy Assistant Judge Advocate General of the Navy (Admiralty and Maritime Law), under authority delegated by the Secretary of the Navy, had certified that certain vessels are vessels of the Navy which, due to their special construction and purpose, could not fully comply with certain specific provisions of 72 COLREGS without interfering with their special function as naval vessels. The Deputy Assistant Judge Advocate General of the Navy (Admiralty and Maritime Law) also had certified that the lights involved were located in closest possible compliance with the applicable 72 COLREGS requirements. The Deputy Assistant Judge Advocate General of the Navy (Admiralty and Maritime Law) has now determined that previous entries for certain of these vessels require administrative correction, or no longer apply based on removal of the vessel from navigation or alterations resulting in compliance with the provisions of 72 COLREGS.

Moreover, it has been determined, in accordance with 32 CFR parts 296 and 701, that publication of this amendment for public comment prior to adoption is impracticable, unnecessary, and contrary to public interest because it is based on administrative corrections, alterations resulting in compliance with the 72 COLREGS, or removal of vessels from navigation.

List of Subjects in 32 CFR Part 706

Marine safety, Navigation (water), Vessels.

Accordingly, 32 CFR part 706 is amended as follows:

PART 706—[AMENDED]

1. The authority citation for 32 CFR part 706 continues to read as follows:

Authority: 33 U.S.C. 1605.

2. Section 706.2 is amended:

a. In Table One by:

i. Removing the entries for the following vessels:

AALC JEFF (B)

USS OLIVER HAZARD PERRY

USS WADSWORTH

USS DUNCAN

USS CLIFTON SPRAGUE

USS ANTRIM

USS FLATLEY

USS FAHRION

USS LEWIS B. PULLER

USS JACK WILLIAMS

USS COPELAND

USS GALLERY

USS MAHLON S. TISDALE

USS REID

USS STARK

USS AUBREY FITCH

USS GUADALCANAL

USS GUAM

USS NEW ORLEANS

USS IMPLICIT

USS CONQUEST

USS GALLANT

USS PLEDGE

USS TACOMA

USS WELCH

USS GATO

USS WHALE

USS TAUTOG

USS GRAYLING

USS POGY

USS ASPRO

USS SUNFISH

USS PARGO

USS PUFFER

USS SANDLANCE

USS GURNARD

USS HAMMERHEAD

USS HAWKBILL

USS BERGALL

USS SPADEFISH

USS SEAHORSE

USS FINBACK

USS NARWHAL

USS PINTADO

USS FLYING FISH

USS TREPANG

USS BLUEFISH

USS BILLFISH

USS DRUM

USS ARCHERFISH

USS WILLIAM H BATES

USS BATFISH

USS TUNNY

USS CAVALLA

USS RICHARD B RUSSELL

USS OMAHA

USS CINCINNATI

USS GROTON

USS BIRMINGHAM

USS NEW YORK CITY

USS INDIANAPOLIS

USS PHOENIX

USS BOSTON

USS BALTIMORE

USS ATLANTA

USS DANIEL WEBSTER

USS STONEWALL JACKSON

USS SIMON BOLIVAR

USS JAMES K. POLK

USS MARIANO G VALLEJO

ii. Amending the entry for USS INCHON by revising “LPH 12” to read “MCS 12” and adding it immediately preceding the entry for NR-1; and

iii. Amending the entry for USS KAMEHAMEHA by revising “SSBN 642” to read “SSN 642” and adding it immediately preceding the entry for USS MENDEL RIVERS.

b. In Table Two by:

i. Removing the entries for the following vessels:

AALC JEFF (B)

USS FORRESTAL

USS SARATOGA

USS INDEPENDENCE

USS AMERICA

USS GUADALCANAL

USS GUAM

USS NEW ORLEANS

ii. Removing and reserving footnote 1; and

iii. Amending the entry for USS INCHON by revising “LPH 12” to read “MCS 12” and adding it immediately preceding the entry for SLWT (class).

c. In Table Three by:

i. Removing the entries for the following vessels:

USS GATO

USS WHALE

USS TAUTOG

USS GRAYLING

USS POGY

USS ASPRO

USS SUNFISH

USS PARGO

USS PUFFER

USS SANDLANCE

USS GURNARD

USS HAMMERHEAD

USS HAWKBILL

USS BERGALL

USS SPADEFISH

USS SEAHORSE

USS FINBACK

USS NARWHAL

USS PINTADO

USS FLYING FISH

USS TREPANG

USS BLUEFISH

USS BILLFISH

USS DRUM

USS ARCHERFISH

USS WILLIAM H. BATES

USS BATFISH

USS TUNNY

USS CAVALLA

USS RICHARD B. RUSSELL

USS OMAHA

USS CINCINNATI

USS GROTON

USS BIRMINGHAM

USS NEW YORK CITY

USS INDIANAPOLIS

USS PHOENIX

USS BOSTON

USS BALTIMORE

USS ATLANTA

USS DANIEL WEBSTER

USS STONEWALL JACKSON

USS SIMON BOLIVAR

USS JAMES K. POLK

USS MARIANO G. VALLEJO

YTB-752

OSHKOSH

YTB 758

SAUGUS

YTB 785

WAPATO

NATCHITOCHES

PALATKA

HOUMA

YTB 826

ii. Amending the entry for USS KAMEHAMEHA by revising “SSBN 642” to read “SSN 642” and adding it immediately preceding the entry for USS PARCHE.

d. In Table Four by:

i. Amending paragraph 4 by removing the following entries from the table:

USS IMPLICIT

USS CONQUEST

USS GALLANT

USS PLEDGE

ii. Removing and reserving paragraph 6;

iii. Removing the following entries from paragraph 7:

USS OLIVER HAZARD PERRY

USS WADSWORTH

USS DUNCAN

USS CLIFTON SPRAGUE

USS ANTRIM

USS FLATLEY

USS FAHRION

USS LEWIS B. PULLER

USS JACK WILLIAMS

USS COPELAND

USS GALLERY

USS MAHLON S. TISDALE

USS REID

USS STARK

USS AUBREY FITCH

iv. Removing the following entries from paragraph 8:

USS OLIVER HAZARD PERRY

USS WADSWORTH

USS DUNCAN

USS CLIFTON SPRAGUE

USS ANTRIM

USS FLATLEY

USS FAHRION

USS LEWIS B. PULLER

USS JACK WILLIAMS

USS COPELAND

USS GALLERY

USS MAHLON S. TISDALE

USS REID

USS STARK

USS AUBREY FITCH

v. Removing and reserving paragraph 10;

vi. Removing the following entries from paragraph 14:

YTB 752

YTB 757

YTB 758

YTB 780

YTB 785

YTB 788

YTB 799

YTB 801

YTB 811

YTB 826

vii. Removing the second entry for USS PORTER in paragraph 16; and

viii. Removing the entry for KING-FISHER in paragraph 18.

e. In Table Five by:

i. Removing the entries for the following vessels:

USS SURIBACHI

USS MAUNA KEA

USS NITRO

USS PYRO

USS MARS

USS SYLVANIA

USS WHITE PLAINS

USS SAN DIEGO

USS DALE

USS RICHMOND K. TURNER

USS BELKNAP

USS LONG BEACH

USS BAINBRIDGE

USS TRUXTUN

USS CALIFORNIA

USS SOUTH CAROLINA

USS MISSISSIPPI

USS ARKANSAS

USS FORRESTAL

USS SARATOGA

USS INDEPENDENCE

USS COMTE DE GRASSE

USS MERRILL

USS CONOLLY

USS JOHN RODGERS

USS LEFTWICH

USS HARRY W. HILL

USS INGERSOLL

USS KIDD

The second entry for USS PORTER

USS CALLAGHAN

USS SCOTT

USS CHANDLER

USS ELK RIVER

USS GUADALCANAL

USS GUAM

USS NEW ORLEANS

USS ALAMO

USS HERMITAGE

USS PENSACOLA

USS FORT FISHER

USS SAGINAW

USS SPARTANBURG COUNTY

USS FAIRFAX COUNTY

USS BRISTOL COUNTY

ii. Amending the entry for USS INCHON by revising “LPH 12” to read “MCS 12” and adding it immediately preceding the entry for USNS KILAUEA.

3. Table One of § 706.3 is amended by removing the following entries:

USNS RANGE SENTINEL (T-AGM-22)

T-AGS 33 Class

USNS ALBERT J. MYER (T-ARC 6)

ARS 6 Class

ARS 38 Class

ASR 7 Class

ASR 21 Class

ATF 148 Class

ATS 1 Class

FF 1037 Class

USS GLOVER (FF 1098)

FFG 1 Class

MSO 422 Class

MSO 508 Class

PG 92 Class

SSBN 616 Class

SSBN 627 Class

SSBN 640 Class

Dated: December 8, 2000.
J.L. Roth,
Commander, JAGC, U.S. Navy, Federal Register Liaison Officer.

[FR Doc. 00-32209 Filed 12-19-00; 8:45 am]

BILLING CODE 3810-FF-P